DEPARTMENT OF HEALTH AND HUMAN SERVICES

Centers for Disease Control and Prevention

[Program Announcement AA018]

Association of Public Health Laboratories; Notice of Intent To Fund Single Eligibility Award

A. Purpose

The Centers for Disease Control and Prevention (CDC) announces the intent to fund fiscal year (FY) 2005 funds for a cooperative agreement program. The purpose of the program is to assist the Association of Public Health Laboratories (APHL), which includes two primary components, the National Laboratory Partnership (NLP) and the National Laboratory Training Network (NLTN), in promoting quality public health practice, improving the public health infrastructure, strengthening the public health laboratory system, and developing a well-trained competent laboratory work force in the United States by focusing on several keys areas. These key areas include, maintaining, monitoring, and sharing information about public health laboratories by serving as a repository of public health laboratory information; enhance communication linkages between State, local, private clinical, and Federal laboratories that perform testing for diseases of public health significance; determine the effect of public health policies on testing practices to ensure the needs of the public are met and that public health laboratories are providing essential services to meet public needs; develop disease prevention strategies based on sound scientific knowledge that will be contained in its repository of information that can be shared and disseminated to other public health laboratories and Federal agencies; develop forums, conferences, symposiums, and related meetings to build leadership and technologic capabilities concerning critical issues; and support a national training network that will provide continuing education courses and training opportunities for laboratorians performing testing for diseases of public health significance. APHL, through the NLTN, will provide timely state of the art “hands-on” training, training broadcasts, and develop appropriate training materials to provide continuing education to the nation's laboratorians that perform testing for diseases of health significance.

B. Eligible Applicant

Assistance will be provided only to the APHL. APHL is the appropriate and only qualified organization to address the activities described under this program announcement.

The Association of Public Health Laboratories (APHL) is the only organization that represents all public health laboratories, which is part of their mission statement and a goal of their strategic plan. By working through its own membership, the various APHL committees, and other affiliate organizations, APHL has developed a unique knowledge of the needs and operations of the public health laboratory practices. The APHL membership includes all States including the state laboratory director and three delegates. APHL represents public health laboratory science practitioners and therefore, represents officials from throughout the United States who have responsibility for all aspects of public health laboratory science, training and education, laboratory management, and policy development.

C. Funding

Approximately $4,600,000.00 is available in FY 2005 to fund this award. It is expected that the award will begin on or before July 1, 2005, and will be made for a 12-month budget period within a project period of 5 years. Funding estimates may change.

D. Where To Obtain Additional Information

For general comments or questions about this announcement, contact: Technical Information Management, CDC Procurement and Grants Office, 2920 Brandywine Road, Atlanta, GA 30341-4146, Telephone: (770) 488-2700.

For technical questions about this program, contact: William O. Schalla, M.S., Project Officer, Division of Public Health Partnerships Mail Stop K-36, National Center for Health Marketing, Centers for Disease Control and Prevention, 4770 Buford Highway, NE., Atlanta, Georgia 30341-3717, Telephone: (770) 488-8098, E-mail: WSchalla@cdc.gov.

Dated: March 17, 2005.
William P. Nichols,
Director, Procurement and Grants Office, Centers for Disease Control and Prevention.

[FR Doc. 05-5706 Filed 3-22-05; 8:45 am]

BILLING CODE 4163-18-P